DEPARTMENT OF STATE

[Public Notice: 5062]

Bureau of Consular Affairs, Passport Services; Notice of Information Collection Under Emergency Review: U.S. Passport Land Border Demand Survey; SV-2005-0002; OMB Control Number 1405-XXXX

AGENCY: Department of State.

ACTION: Notice.

SUMMARY: The Department of State has submitted the following information collection request to the Office of Management and Budget (OMB) for review and approval in accordance with the emergency review procedures of the Paperwork Reduction Act of 1995.

Type of Request: Emergency Review.

Originating Office: Bureau of Consular Affairs, CA/PPT.

Title of Information Collection: U.S. Passport Land Border Demand Survey.

Frequency: One time. The survey will be administered during a two-week period.

Form Number: SV-2005-0002.

Respondents: U.S. citizens crossing the U.S./Mexico and U.S./Canada borders.

Estimated Number of Respondents: Approximately 6,400 respondents.

Average Hours Per Response: Five (5) minutes per response.

Total Estimated Burden: 533 hours.

The proposed information collection is published to obtain comments from the public and affected agencies. Emergency review and approval of this collection has been requested from OMB by May 1, 2005. If granted, the emergency approval is only valid for 180 days. Comments should be directed to the State Department Desk Officer, Office of Information and Regulatory Affairs, Office of Management and Budget (OMB), Washington, DC 20530, who may be reached on 202-395-3897.

FOR FURTHER INFORMATION CONTACT: Requests for additional information, regarding the collection listed in this notice should be directed to R. Michael Holly, Bureau of Consular Affairs, Passport Services, U.S. Department of State, Washington, DC 20520, who may be reached on 202-663-2472.

Dated: April 20, 2005.
Frank E. Moss,
Deputy Assistant Secretary, Passport Services, Bureau of Consular Affairs, Department of State.

[FR Doc. 05-9204 Filed 5-6-05; 8:45 am]

BILLING CODE 4710-06-P